DEPARTMENT OF ENERGY

Federal Energy Regulatory Commission

[Docket No. AD03-11-000]

Southwestern Gas Storage Technical Conference; Notice of Technical Conference and Agenda

August 4, 2003.

As announced in the Notice of Conference issued on June 19, 2003, staff from the Federal Energy Regulatory Commission (Commission) will convene a technical conference on August 26, 2003 at 9 a.m. at the Pointe Hilton Squaw Peak Resort, 7677 N. 16th St, Phoenix, AZ 85020, (602) 997-2626, to discuss issues related to natural gas storage development in the southwestern United States. By order issued June 4, 2003, in Docket Nos. CP02-420-000 et al., the Commission directed that a technical conference be held to begin analysis of relevant market needs and regulatory options available to the Commission to assure the appropriate development of southwestern natural gas storage facilities and markets.¹ The conference Agenda is appended to this Notice.

¹ For the purpose of this conference, the Southwest is generally defined as west Texas, New Mexico, Arizona, southern Nevada, and southern California.

In the June 19, 2003 Notice, potential presenters were asked to consider the following questions and present their responses at the conference, in order to more clearly focus the discussion:

What potential projects are currently under consideration by the industry for developing gas storage in the Southwest?

Should the Commission initiate an open-season approach for storage development proposals, in which all potential projects are filed at the same time?

What types of storage services are necessary or envisioned?

Who will contract for these services?

What type of storage facilities can physically be constructed (i.e. salt cavern, depleted oil/gas reservoirs, aquifer type, etc.)?

What environmental and cultural resources issues would affect the development of gas storage facilities in the Southwest?

What are the concerns of Native Americans in the development of natural gas storage facilities in the southwest?

Transcripts of the conference will be available from Ace-Federal Reporters, Inc. for a fee. The transcript will be available on the Commission's FERRIS system two weeks after the conference.

For additional information, please contact Elizabeth Anklam in the Office of Energy Projects at elizabeth.anklam@ferc.gov.

Magalie R. Salas,
Secretary.

Southwestern Gas Storage Conference Agenda; August 26, 2003

9 AM Opening Remarks—FERC

9:15 AM Panel I—Regulatory Perspectives—Panel Members

—FERC Certificate Process—Berne Mosley, Director, Division of Pipeline Certificates

—Certificate Policy Statement—John Myler, Attorney, Office of the General Counsel

—Rate Options—Robert Petrocelli, Office of Markets, Tariffs, and Rates

—Storage Engineering/Technical Review—Elizabeth Anklam, Petroleum Engineer, Division of Pipeline Certificates

—Environmental Review—Lonnie Lister, Chief, Environmental Branch 3, Office of Energy Projects

—The State Perspective—Marc Spitzer, Chairman Arizona Corporation Commission

10:45 AM—Question and Answer Session—15 minutes for questions from the audience

11 AM—Panel II—Industry Perspectives—Storage Panel Members

—Red Lake Gas Storage—Mark Cook, Vice President

—Copper Eagle Gas Storage—TBA

—Unocal Midstream and Trade (Keystone Gas Storage Facility)—TBA

—EnCana Gas Storage (Wild Goose Storage Inc.)—Paul Amirault, Vice President, Marketing

—Desert Crossing Gas Storage and Transportation System—TBA

12:15 AM—Question and Answer Session—15 minutes for questions from the audience

12:30 PM—Break—Lunch

1:30 PM—Panel III—Industry Perspectives—Other Panel Members

—El Paso Natural Gas Company—TBA

—Southwest Gas Corporation—TBA

—Salt River Project Agricultural Improvement & Power District—TBA

—LECG Economics, Finance—James F. Wilson, Principal

—International Gas Consulting—Kenneth Beckman, President

2:45 PM—Question and Answer Session—15 minutes for questions from the audience

3 PM Panel IV—Federal, State and Tribal Lands Matters Panel Members

—Hualapai Nation—TBA

—BLM—TBA

—Arizona Department of Environmental Quality—TBA

4 PM Question and Answer Session—15 minutes for questions from the audience

4:15 PM—Closing Remarks

[FR Doc. 03-20452 Filed 8-8-03; 8:45 am]

BILLING CODE 6717-01-P